DEPARTMENT OF ENERGY

Proposed Agency Information Collection

AGENCY: U.S. Department of Energy.

ACTION: Notice and Request for OMB Review and Comment.

SUMMARY: The Department of Energy (DOE) has submitted to the Office of Management and Budget (OMB) for clearance, a proposal for collection of information under the provisions of the Paperwork Reduction Act of 1995. The proposed collection will enable the DOE to develop its part of the U.S. Government Declaration to the International Atomic Energy Agency (IAEA) under the Additional Protocol (AP) to the U.S.-IAEA International Safeguards Agreement.

DATES: Comments regarding this collection must be received on or before November 5, 2008. If you anticipate that you will be submitting comments, but find it difficult to do so within the period of time allowed by this notice, please advise the OMB Desk Officer as soon as possible of your intention to make a submission. The Desk Officer's telephone number is 202-395-4650.

ADDRESSES: Written comments should be sent to the DOE Desk Officer, Office of Information and Regulatory Affairs, Office of Management and Budget, New Executive Office Building, Room 10102, 735 17th Street, NW., Washington, DC 20503, and to JoAnna Sellen, Office of International Regimes and Agreements (NA-243), National Nuclear Security Administration, 1000 Independence Ave., SW., Washington, DC 20585 or by fax at 202-586-1348, or by e-mail at Joanna.Sellen@nnsa.doe.gov.

FOR FURTHER INFORMATION CONTACT: Requests for additional information or copies of the information collection instrument and instructions should be directed to JoAnna Sellen.

SUPPLEMENTARY INFORMATION: This information collection request contains: (1) OMB No. {”New”}; (2) Information Collection Request Title: U.S. Declaration under Protocol Additional to the U.S.-IAEA Safeguards Agreement (“Additional Protocol”); (3) Type of Request: {New collection.} (4) Purpose: Develop Information for Inclusion by the Department of Energy in the United States Declaration to the International Atomic Energy Agency (IAEA) under the Additional Protocol to the U.S.-IAEA International Safeguards Agreement.

This proposed collection of information is pursuant to implementing the provisions of the Protocol Additional to the Agreement Between the United States of America and the IAEA for the Application of Safeguards in the United States of America (the “Additional Protocol” or AP). The Additional Protocol is a supplement to the existing U.S.-IAEA Safeguards Agreement, which entered into force in 1980, and the U.S. AP will become part of the Safeguards Agreement once the U.S. AP enters into force. The United States signed the U.S. AP in 1998, President Bush submitted it to the Senate on May 9, 2002 for the Senate's advice and consent to ratification, and the Senate approved a resolution providing such advice and consent on March 31, 2004. Legislation to implement the U.S. AP was enacted on December 18, 2006, and is codified at 22 U.S.C. 1801, et seq. Entry into force of the U.S. AP will take place when the President deposits the instrument of ratification with the IAEA.

The Department of Energy (DOE) is the Lead Agency for implementing the Additional Protocol at locations owned, operated, or leased by or for DOE, including Nuclear Regulatory Commission (NRC)-licensed or certified activities on DOE installations, and, in coordination with the Department of Defense, non-military locations on installations that store or process naval reactor fuel (collectively known as “DOE Locations”). This collection of information affects only those persons performing activities at DOE Locations that would be declarable to the IAEA under the U.S. AP. The NRC is the Lead Agency for locations that are subject to the regulatory authority of the NRC, pursuant to the NRC's regulatory jurisdiction under the Atomic Energy Act of 1954, as amended (42 U.S.C. 2011 et seq. ), with the exception of those NRC-licensed or NRC-certified facilities at DOE Locations. The Department of Commerce (DOC) is the Lead Agency for all other locations in the United States, except DOE Locations and those locations for which the NRC is the Lead Agency. All persons, including DOE contractors performing declarable activities at locations other than those for which DOE is the Lead Agency, would submit their declarations for these activities at non-DOE locations to either the NRC or DOC, as appropriate.

The Department of Energy proposes to collect information that is required for submission under the U.S. AP. Collecting this information from those persons who are actually performing declarable activities at DOE Locations provides the most effective and efficient way for DOE to identify such declarable activities and the locations associated with such activities, and to compile accurate and timely information on such activities.

All reporting requirements that are applicable to respondents making their declarations through DOE can be found in Article 2.a of the U.S. AP. These activities are considered to be funded, specifically authorized or controlled by, or carried out on behalf of, the United States, by virtue of the fact that the Department of Energy, as an agency of the U.S. Government controls all activities, regardless of performer, that occur at its installations.

(5) Type of Respondents: Respondents will primarily include DOE Management and Operations (M&O) contractors operating DOE installations and facilities. (6) Estimated Number of Respondents: DOE estimates that the number of respondents submitting their declaration under the U.S. AP through DOE will range from 10-15. The number will fluctuate on an annual basis. However, any person performing a declarable activity at a location for which DOE is the Lead Agency must report that activity through DOE, and the identity of such persons might change from year to year as declarable activities are initiated or terminated. (7) Estimated Number of Burden Hours: The burden in person-hours of responding to the proposed collection of information will depend on the number of declarable activities at the respondent's location. This estimate includes the effort required to identify these activities, collect information on them, complete the declarations, and submit them to DOE. This effort per collection might range from as low as 40 hours, for a person with one or two declarable activities, to as many as 400 hours, for a person with 30-40 declarable activities. This effort includes annual effort expended in maintaining and training with the software provided by DOE to collect and report the information as well as making the declaration.

Statutory Authority: 22 U.S.C. 1801, et seq.

Issued in Washington, DC, on September 30, 2008.
Kurt Siemon,
Acting Assistant Deputy Administrator for nonproliferation And International Security.

[FR Doc. E8-23541 Filed 10-3-08; 8:45 am]

BILLING CODE 6450-01-P